INTERNATIONAL TRADE COMMISSION

[Investigation Nos. 701-TA-679 and 731-TA-1585 (Final)]

Sodium Nitrite From India

Determination

On the basis of the record ¹ developed in the subject investigations, the United States International Trade Commission (“Commission”) determines, pursuant to the Tariff Act of 1930 (“the Act”), that an industry in the United States is materially injured by reason of imports of sodium nitrite from India, provided for in subheading 2834.10.10 of the Harmonized Tariff Schedule of the United States, that have been found by the U.S. Department of Commerce (“Commerce”) to be sold in the United States at less than fair value (“LTFV”), and to be subsidized by the government of India.²

¹ The record is defined in § 207.2(f) of the Commission's Rules of Practice and Procedure (19 CFR 207.2(f)).

² 88 FR 1042 and 88 FR 1052 (January 6, 2023).

Background

The Commission instituted these investigations effective January 13, 2022, following receipt of petitions filed with the Commission and Commerce by Chemtrade Chemicals US LLC, Parsippany, New Jersey. The Commission established a general schedule for the conduct of the final phase of its investigations of sodium nitrite from India and Russia following publication of a preliminary determination by Commerce that imports of sodium nitrite were subsidized by the government of Russia. Notice of the scheduling of the final phase of the Commission's investigation and of a public hearing to be held in connection therewith was given by posting copies of the notice in the Office of the Secretary, U.S. International Trade Commission, Washington, DC, and by publishing the notice in the Federal Register of April 20, 2022 (87 FR 23567). In light of the restrictions on access to the Commission building due to the COVID-19 pandemic, the Commission conducted its hearing through written testimony and video conference on Tuesday, June 21, 2022. All persons who requested the opportunity were permitted to participate.

The investigation schedules became staggered when Commerce did not align its countervailing duty investigation on Russia with either of the corresponding antidumping duty investigations, did not postpone the final determination of its antidumping duty investigation on Russia, and aligned its countervailing duty investigation on sodium nitrite from India with its antidumping duty investigation regarding India. On August 15, 2022, the Commission issued a final affirmative determination in its countervailing duty investigation of sodium nitrite from Russia (87 FR 51141, August 19, 2022). On October 28, 2022, the Commission issued a final affirmative determination in its antidumping duty investigation of sodium nitrite from Russia (87 FR 66323, November 3, 2022). Following publication of final determinations by Commerce that imports of sodium nitrite from India were being sold at LTFV within the meaning of section 735(a) of the Act (19 U.S.C. 1673d(a)), and subsidized within the meaning of section 705(a) of the Act (19 U.S.C. 1671d(a)), notice of the supplemental scheduling of the final phase of the Commission's antidumping and countervailing duty investigations of sodium nitrite from India was given by posting copies of the notice in the Office of the Secretary, U.S. International Trade Commission, Washington, DC, and by publishing the notice in the Federal Register of January 19, 2023 (88 FR 3438).

The Commission made these determinations pursuant to §§ 705(b) and 735(b) of the Act (19 U.S.C. 1671d(b) and 19 U.S.C. 1673d(b)). It completed and filed its determinations in these investigations on February 20, 2023. The views of the Commission are contained in USITC Publication 5408 (February 2023), entitled Sodium Nitrite from India: Investigation Nos. 701-TA-679 and 731-TA-1585 (Final).

By order of the Commission.
Issued: February 21, 2023.
Lisa Barton,
Secretary to the Commission.

[FR Doc. 2023-03917 Filed 2-24-23; 8:45 am]

BILLING CODE 7020-02-P